DEPARTMENT OF HEALTH AND HUMAN SERVICES

Centers for Disease Control and Prevention

[60-Day-15-0134; Docket No. CDC-2015-0039]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a revision to several of the information collections pertaining to the importation of dogs as outlined in the currently approved information collection entitled “Foreign Quarantine Regulations (42 CFR part 71)”.

DATES: Written comments must be received on or before August 17, 2015.

ADDRESSES: You may submit comments, identified by Docket No. CDC-2015-0039 by any of the following methods:

• Federal eRulemaking Portal: Regulation.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Foreign Quarantine Regulations (42 CFR part 71)—Revision—(OMB Control No. 0920-0134, Expires September 30, 2017), National Center for Emerging and Zoonotic Infections Diseases (NCEZID), Centers for Disease Control and Prevention (CDC).

Background and Brief Description

This information collection revision request is an effort to provide greater clarity surrounding paperwork requirements and focuses exclusively on certain information collections that pertain to importation of dogs into the United States. Specifically, CDC seeks to make the following changes:

• CDC is asking to correct a transcription error in the burden tables in section 12. Currently, the relevant IC reads: 71.51(b)(2) Dogs/cats: Certification of Confinement, Vaccination (CDC form 75.37). It should have been: 71.51(c)(2) Dogs: Certification of Confinement, Vaccination (CDC form 75.37).

• CDC is also proposing to replace the CDC form 75.37 NOTICE TO OWNERS AND IMPORTERS OF DOGS: Requirement for Dog Confinement with a new Application For Permission To Import A Dog Unimmunized Against Rabies, which, if the importer meets the criteria for importation, will be followed by a CDC-completed Permit to Conditionally Import a Dog Inadequately Immunized against Rabies—Single Entry

• CDC is also requesting approval to change and split the current information collection (IC) “71.51(c)(2) Dogs/cats: Certification of Confinement, Vaccination (CDC form 75.37)” into two separate ICs.

• CDC will include one modified IC: “71.51(c)(2), (d) Application For Permission To Import A Dog Unimmunized Against Rabies”. This will include a reduced estimate of the numbers of these permits, formerly CDC form 75.37 NOTICE TO OWNERS AND IMPORTERS OF DOGS: Requirement for Dog Confinement, issued each year.

• CDC will include a separate IC pertaining to 71.51(c)(1), (d). The title for this IC is Valid Rabies Vaccination Certificate, which will include only the burden associated with rabies vaccination certificates.

• CDC is also including an information collection for 71.51(c)(i), (ii), and (iii) which provides exemption criteria for the importation of a dog without a rabies vaccination certificate.

CDC is not requesting changes to any of the other information collections included under OMB control number 0920-0134.

The total requested burden hours is 307,613. There is no burden to respondents other than the time taken to complete the reports or documentation for CDC.

Estimated Annualized Burden Hours
Type of respondent | Form name/CFR reference | Number of respondents | Number of responses per respondent | Average burden per response (in hours) | Total burden hours
Maritime conveyance operators | 71.21(a) Radio Report of death/illness—illness reports from ships (fillable PDF (individual case and cumulative report), phone, transcribed email) | 2,000 | 1 | 2/60 | 67
Aircraft commander or operators | 71.21(b) Death/Illness reports from aircrafts (verbal, no form) | 1,700 | 1 | 2/60 | 57
Maritime conveyance operators | 71.21(c) Gastrointestinal Illnesses reports 24 and 4 hours before arrival (MIDRS) | 17,000 | 1 | 3/60 | 850
Maritime conveyance operators | 71.21(c) Recordkeeping—Medical logs (no form, captains provide logs) | 17,000 | 1 | 3/60 | 850
Isolated or Quarantined individuals | 71.33(c) Report by persons in isolation or surveillance (verbal, no form) | 11 | 1 | 3/60 | 1
Maritime conveyance operators | 71.35 Report of death/illness during stay in port (verbal, no form) | 5 | 1 | 30/60 | 3
Traveler | Locator Form used in an outbreak of public health significance | 2,700,000 | 1 | 5/60 | 225,000
Traveler | Locator Form used for reporting of an ill passenger(s) | 800 | 1 | 5/60 | 67
Importer | 71.51(c)(1), (d)—Valid Rabies Vaccination Certificates | 245,310 | 1 | 15/60 | 61,328
Importer | 71.51(c)(i), (ii), and (iii) exemption criteria for the importation of a dog without a rabies vaccination certificate | 43,290 | 1 | 15/60 | 10,823
Importer | 71.51(c)(2), (d) Application For Permission To Import A Dog Unimmunized Against Rabies | 1,400 | 1 | 15/60 | 350
Importer | 71.51(b) (3) Dogs/cats: Record of sickness or deaths (no form, record review) | 20 | 1 | 15/60 | 5
Importer/Filer | CDC PGA Message Set for Importing Cats and Dogs | 30,000 | 1 | 15/60 | 7,500
Importer | 71.52(d) Turtle Importation Permits (no form, just written request) | 5 | 1 | 30/60 | 3
Importer | 71.56(a)(2) African Rodents—Request for exemption ( no form, written request only) | 20 | 1 | 1 | 20
Importer/Filer | CDC PGA Message Set for Importing African Rodents | 60 | 1 | 15/60 | 15
Importers | 71.55 Dead bodies (death certificates submitted) | 5 | 1 | 1 | 5
Filer | 71.56(a)(iii) Appeal (no form, written request only) | 2 | 1 | 1 | 2
Filer/Importer | Statement or documentation of Non-infectiousness (Documented, no form; authority under 71.32(b)) | 2,000 | 1 | 5/60 | 167
Importer/Filer | CDC PGA Message Set for Importing African Rodent and All Family Viverridae Products | 2,000 | 1 | 15/60 | 500
Total |  |  |  |  | 307,613

Leroy A. Richardson,
Chief, Information Collection Review Office, Office of Scientific Integrity, Office of the Associate Director for Science, Office of the Director, Centers for Disease Control and Prevention.

[FR Doc. 2015-14787 Filed 6-16-15; 8:45 am]

BILLING CODE 4163-18-P